DEPARTMENT OF ENERGY

[Docket No. 18-144-LNG]

ECA Liquefaction, S. de R.L. de C.V.; Request for Extension of Export Commencement Deadline

AGENCY: Office of Fossil Energy and Carbon Management, Department of Energy.

ACTION: Notice of request.

SUMMARY: The Office of Fossil Energy and Carbon Management (FECM) (formerly the Office of Fossil Energy (FE)) of the Department of Energy (DOE) gives notice (Notice) of receipt of a request (Request), filed on September 19, 2025, by ECA Liquefaction, S. de R.L. de C.V. (ECA Liquefaction). ECA Liquefaction asks DOE to amend its existing authorization to re-export U.S.-sourced natural gas in the form of liquefied natural gas (LNG) from the ECA Mid-Scale Project (Project), currently under construction, in Ensenada, Baja California, Mexico, to non-free trade agreement countries set forth in DOE/FE Order No. 4364 (as amended)—specifically, to extend the current export commencement deadline in its order. ECA Liquefaction filed the Request under the Natural Gas Act (NGA).

DATES: Protests, motions to intervene, or notices of intervention, as applicable, and written comments are to be filed electronically as detailed in the Public Comment Procedures section no later than 4:30 p.m., Eastern time, December 18, 2025.

ADDRESSES:

Electronic Filing by email (Strongly encouraged): fergas@hq.doe.gov.

Postal Mail, Hand Delivery, or Private Delivery Services (e.g., FedEx, UPS, etc.): U.S. Department of Energy (FE-34), Office of Regulation, Analysis, and Engagement, Office of Fossil Energy and Carbon Management, Forrestal Building, Room 3E-056, 1000 Independence Avenue SW, Washington, DC 20585.

Due to potential delays in DOE's receipt and processing of mail sent through the U.S. Postal Service, we encourage respondents to submit filings electronically to ensure timely receipt.

FOR FURTHER INFORMATION CONTACT:

Jennifer Wade or Peri Ulrey, U.S. Department of Energy (FE-34) Office of Regulation, Analysis, and Engagement, Office of Resource Sustainability, Office of Fossil Energy and Carbon Management, Forrestal Building, Room 3E-042, 1000 Independence Avenue SW, Washington, DC 20585, (202) 586-4749 or (202) 586-7893, jennifer.wade@hq.doe.gov or peri.ulrey@hq.doe.gov.

Irene V. Norville, U.S. Department of Energy (GC-76) Office of the Assistant General Counsel for Energy Delivery and Resilience, Forrestal Building, Room 6D-033, 1000 Independence Avenue SW, Washington, DC 20585, (240) 702-5679, irene.norville@hq.doe.gov.

SUPPLEMENTARY INFORMATION: On March 29, 2019, in Order No. 4364 (as amended),¹ DOE authorized ECA Liquefaction to re-export U.S.-sourced natural gas in the form of LNG in a volume equivalent to 161 billion cubic feet per year (Bcf/yr) of natural gas by vessel from the proposed Project, currently under construction, located north of Ensenada in Baja California, Mexico, approximately 31 miles south of the San Diego-Tijuana/San Ysidro border between the United States and Mexico, to any country with which the United States has not entered into a free trade agreement (FTA) requiring national treatment for trade in natural gas, and with which trade is not prohibited by U.S. law or policy (non-FTA countries), pursuant to NGA section 3(a).² ECA Liquefaction is authorized to re-export this LNG for a term extending through December 31, 2050.³

¹ ECA Liquefaction, S. de R.L. de C.V., DOE/FE Order No. 4364, Docket No. 18-144-LNG, Opinion and Order Granting Long-Term Authorization to Re-Export U.S.-Sourced Natural Gas in the Form of Liquefied Natural Gas from Mexico to Non-Free Trade Agreement Countries (ECA Mid-Scale Project) (Mar. 29, 2019), amended by DOE/FE Order No. 4364-A (Oct. 7, 2019) (transferring authorization from Energía Costa Azul, S. de R.L. de C.V. to ECA Liquefaction, S. de R.L. de C.V.), amended by DOE/FE Order No. 4364-B (Dec. 10, 2020) (extending export term).

² 15 U.S.C. 717b(a).

³ ECA Liquefaction, S. de R.L. de C.V., DOE/FE Order No. 4364-B at 10.

As relevant here, Order No. 4364, as amended, requires ECA Liquefaction to “commence re-export operations using the planned liquefaction facilities no later than seven years from the date of issuance of this Order”—i.e., by March 29, 2026.⁴ In the Request, ECA Liquefaction asks DOE to “extend the deadline for commercial export of LNG under the Non-FTA Authorization to September 21, 2026.” ⁵

⁴ ECA Liquefaction, S. de R.L. de C.V., DOE/FE Order No. 4364, at 52 (Ordering Para. D).

⁵ ECA Liquefaction, S. de R.L. de C.V., Request for Extensions for Long-Term Authorizations to Export Liquefied Natural Gas, Docket No. 18-144-LNG, at 1, 3 (Sept. 19, 2025) [hereinafter Request]. The Application also applies to ECA Liquefaction's existing FTA order in Docket No. 18-144-LNG, but DOE will address the FTA portion of the Application separately pursuant to NGA section 3(c), 15 U.S.C. 717b(c).

In the Request, ECA Liquefaction asserts that there is good cause for the commencement deadline extension request. ECA Liquefaction states that it “has proceeded expeditiously to advance the ECA Mid-Scale Project and has worked diligently to develop the project in a manner consistent with the DOE/FECM authorizations.” ⁶ ECA Liquefaction further states that “[c]onstruction of the ECA Mid-Scale Project is 93.49% complete, with total project progress (including pre-commissioning and commissioning activities) reaching a cumulative 94.85%.” ⁷ ECA Liquefaction maintains that it requests “an extension of the existing commencement deadline to complete the [remaining] construction and place the export facilities into service.” ⁸ ECA Liquefaction adds that it “does not propose any changes to the nature, scope, or the design of the ECA Mid-Scale Project” and that “[n]either will the overall volume of [natural] gas to be exported under the order be increased[.]” ⁹

⁶ Request at 5.

⁷ Id.

⁸ Id. at 5-6.

⁹ Id. at 4.

Additional details can be found in the Request, posted on the DOE website at: https://www.energy.gov/sites/default/files/2025-09/ECA%20Phase%201%20DOE%20Request%20for%20Extension%209.19.2025.pdf.

DOE Evaluation

In reviewing the Request, DOE will consider any issues required by law or policy under NGA section 3(a), DOE's regulations, and any other documents deemed appropriate.

Parties that may oppose the Request should address these issues and documents in their comments and/or protests, as well as other issues deemed relevant to the Request.

The National Environmental Policy Act (NEPA), 42 U.S.C. 4321 et seq., requires DOE to give appropriate consideration to the environmental effects of its proposed decisions. No final decision will be issued in this proceeding until DOE has met its NEPA responsibilities.

Public Comment Procedures

In response to this Notice, any person may file a protest, comments, or a motion to intervene or notice of intervention, as applicable, addressing the Request. Interested parties will be provided 30 days from the date of publication of this Notice in the Federal Register in which to submit comments, protests, motions to intervene, or notices of intervention. The public previously was given an opportunity to intervene in, protest, and comment on ECA Liquefaction's long-term non-FTA application in this docket. Therefore, DOE will not consider comments or protests that do not bear directly on this Request.

Any person wishing to become a party to this proceeding evaluating ECA Liquefaction's Request must file a motion to intervene or notice of intervention.¹⁰ The filing of comments or a protest with respect to the Request will not serve to make the commenter or protestant a party to this proceeding, although protests and comments received from persons who are not parties will be considered in determining the appropriate action to be taken on the Request. All protests, comments, motions to intervene, or notices of intervention must meet the requirements specified by DOE's regulations in 10 CFR part 590, including the service requirements.

¹⁰ Status as an intervenor in prior proceeding(s) in this docket does not continue to this proceeding evaluating ECA Liquefaction's Request, and therefore any person interested in intervening to address the Request must file a new motion to intervene (or notice of intervention, as applicable). 10 CFR 590.303.

Filings may be submitted using one of the following methods:

(1) Submitting the filing electronically at fergas@hq.doe.gov;

(2) Mailing the filing to the Office of Regulation, Analysis, and Engagement at the address listed in the ADDRESSES section; or

(3) Hand delivering the filing to the Office of Regulation, Analysis, and Engagement at the address listed in the ADDRESSES section.

For administrative efficiency, DOE prefers filings to be filed electronically. All filings must include a reference to “Docket No. 18-144-LNG” or “ECA Liquefaction Request for Extension” in the title line. Filings must be submitted in English to be considered.¹¹

¹¹ Executive Order 14224 of March 1, 2025, Designating English as the Official Language of the United States, 90 FR 11363 (Mar. 6, 2025).

For electronic submissions: Please include all related documents and attachments (e.g., exhibits) in the original email correspondence. Please do not include any active hyperlinks or password protection in any of the documents or attachments related to the filing. All electronic filings submitted to DOE must follow these guidelines to ensure that all documents are filed in a timely manner.

The Request, and any filed protests, motions to intervene, notices of intervention, and comments will be available electronically on the DOE website at www.energy.gov/fecm/regulation.

A decisional record on the Request will be developed through responses to this Notice by parties, including the parties' written comments and replies thereto. Additional procedures will be used as necessary to achieve a complete understanding of the facts and issues. If an additional procedure is scheduled, notice will be provided to all parties. If no party requests additional procedures, a final Order may be issued based on the official record, including the Request and responses filed by parties pursuant to this Notice, in accordance with 10 CFR 590.316.

Signed in Washington, DC, on November 13, 2025.
Amy Sweeney,
Director, Office of Regulation, Analysis, and Engagement, Office of Resource Sustainability.

[FR Doc. 2025-20044 Filed 11-17-25; 8:45 am]

BILLING CODE 6450-01-P